DEPARTMENT OF EDUCATION

Applications for New Awards; Postsecondary Student Success Program; Correction

AGENCY: Office of Postsecondary Education, Department of Education.

ACTION: Notice; correction.

SUMMARY: On August 12, 2022, the Department of Education (Department) published in the Federal Register a notice inviting applications (NIA) for new awards for fiscal year (FY) 2022 for the Postsecondary Student Success Program, Assistance Listing Number 84.116M. We are correcting the name of the program from Postsecondary Success Program to Postsecondary Student Success Program. We are also correcting the number of performance measures from five to four.

DATES: This correction is applicable September 16, 2022.

FOR FURTHER INFORMATION CONTACT: Nemeka Mason, U.S. Department of Education, 400 Maryland Avenue SW, Room 2C102, Washington, DC 20202- 4260. Telephone: (202) 453-5650. Email: Nemeka.Mason@ed.gov.

If you use a telecommunications device for the deaf (TDD) or a text telephone (TTY), call the Federal Relay Service (FRS), toll free, at 1-800-877-8339.

SUPPLEMENTARY INFORMATION: On August 12, 2022, we published in the Federal Register the NIA for the FY 2022 Supplemental Assistance to Institutions of Higher Education grant opportunity (87 FR 49811). This notice corrects the name of the program and the number of performance measures.

Corrections

In FR Doc. 2022-17321 appearing on page 49811 of the Federal Register of August 12, 2022, we make the following corrections:

1. On page 49811, in the first column, in the document subject heading, add “Student” after “Postsecondary”.

2. On page 49811, in the first column, in the “Summary” section, add “Student” after “Postsecondary”.

3. On page 49815, in the third column, in the “VI. Award Administration Information” section, revise the introductory sentence following the heading, “5. Performance Measures,” to read as follows:

“Under 34 CFR 75.110, the following four performance measures will be used in assessing the performance of the Postsecondary Student Success Program:”

Program Authority: Sections 741-745 of the Higher Education Act of 1965, as amended, 20 U.S.C. 1138-1138d, the Explanatory Statement accompanying Division H of the Consolidated Appropriations Act, 2022 (Pub. L. 117-103).

Accessible Format: On request to the contact person listed under FOR FURTHER INFORMATION CONTACT, individuals with disabilities can obtain this notice, the NIA, and a copy of the application in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Nasser H. Paydar,
Assistant Secretary for Postsecondary Education.

[FR Doc. 2022-20123 Filed 9-15-22; 8:45 am]

BILLING CODE 4000-01-P